DEPARTMENT OF THE INTERIOR

Bureau of Land Management

[CA-180-06-1430-EQ; CACA 46909]

Notice of Realty Action; Non-Competitive Land Use Authorization for Public Lands in Yuba County, CA

AGENCY: Bureau of Land Management, Interior.

ACTION: Notice of realty action.

SUMMARY: The Operating Engineers Local Union No. 3 Joint Apprenticeship Training Committee has submitted a written proposal to the Bureau of Land Management (BLM) to utilize portions of the following described lands in Yuba County, California for the purposes of constructing and operating a training facility for heavy equipment operators:

T. 16 N., R. 5 E., Mount Diablo Meridian

Sec. 27, Lots 4, 5, and 12, S½N½NE¼SW¼, S½NE¼SW¼.

The BLM has reviewed the proposal and has determined that the land would be suitable for a non-competitive land use authorization under the provisions of Section 302 of the Federal Land Policy and Management Act.

DATES: Interested parties may submit comments in writing to BLM at the address below not later than May 15, 2006.

ADDRESSES: Bureau of Land Management, Field Office Manager, Folsom Field Office, 63 Natoma Street, Folsom, CA 95630.

FOR FURTHER INFORMATION CONTACT: Jodi Lawson, Realty Specialist, at address given above, or by telephone at (916) 985-4474.

SUPPLEMENTARY INFORMATION: The proposal is to utilize 57 acres of public land for the construction and operation of an apprenticeship training center for heavy equipment operators. The training center would consist of two 2,400 square-foot stationary buildings, one for maintenance and one for equipment/vehicle washing; and five portable trailers that would serve as classrooms, a restroom, and an administrative building. The training center would require approximately 9,500 square feet of unpaved parking and unpaved roads connecting the parking area to Hammonton Road. Approximately 20 pieces of heavy equipment would be stored on-site within the unpaved parking area which would be fenced to control access and prevent unauthorized entry.

The training center would provide training opportunities in 6-week classes with 20 students at a time. Students would be trained in the use of heavy equipment in rock, sand and gravel operations. The center would also offer 2-week classes for upgrading journeyman equipment operator's skills.

BLM has assessed the proposal and determined the proposed use would be in conformance with the Sierra Planning Area Management Framework Plan, under 43 CFR 1610.8. The site is suitable for the requested land use due to past industrial mining operations that has previously severely disturbed the environment on most of the site. A non-competitive land use authorization may be employed due to the absence of any competitive interest past or present for use of the land for such a purpose.

An environmental analysis was completed in connection with the proposal. The analysis indicated the project would have positive economic impacts and no significant environmental impacts.

Yuba County, in which the area is located, is one of the more economically depressed counties in California. Nearly 21% of the county's population lives below the poverty line and per capita income is one third less than the state average. Projects with positive economic impacts are highly sought after by local government. For this reason and others, the Yuba County Board of Supervisors supports the project and has passed two resolutions indicating their support of the project.

Environmental impacts are benign due largely to the fact that the area in which heavy equipment would be operated has previously been mined. The land was mined by large gold dredges that literally turned the landscape upside down.

On October 13, 2005 a public meeting was held in Marysville, California to discuss the project and the environmental assessment. The meeting was attended by over 120 people. Twenty-five speakers spoke in favor, one in opposition. One speaker spoke in favor but asked for minor amendments to the project specifications. Two current members of the Yuba County Board of Supervisors and one past board member made comments in favor of the project. Six written comments were provided to the BLM at the public meeting, all but one was in support. The letter of opposition was from Western Aggregates, L.L.C. a mining company with substantial interests in this area.

The 45-day public comment period on the environmental assessment yielded five public comments. One was extensive and critical of the environmental assessment. It was provided by the attorney for Western Aggregates, L.L.C. A comment letter was received from the Corps of Engineers which pointed out their omission as an agency with an interest in the area, and a letter was received from the State of California indicating compliance with California State Clearinghouse procedures. The final two comment letters were from individuals supporting the project, though one letter requested certain mitigation measures.

Following publication of this notice, and pursuant to the regulations at 43 CFR part 2920, BLM will accept for processing an application filed by the Operating Engineers Local Union No. 3 Joint Apprenticeship Training Center for a non-competitive land use authorization for the above described public land for use as proposed herein. Copies of the environmental analysis of this proposed action are available for review at the Folsom Field Office.

Comments on BLM's determination of the availability and suitability of the subject lands for the proposed use described herein and its decision to accept an application from the Operating Engineers Local Union No. 3 Joint Apprenticeship Training Committee for a non-competitive land use authorization may be submitted to the BLM at the address stated above within 30 days following publication of this notice. All comments will be evaluated by the BLM Folsom Field Office Manager prior to making a final decision on whether or not to authorize use of the property for a heavy equipment operator training area.

Dated: February 2, 2006.
J. Anthony Danna,
Deputy State Director, Natural Resources (CA-930).

[FR Doc. E6-5477 Filed 4-12-06; 8:45 am]

BILLING CODE 4310-40-P